DEPARTMENT OF LABOR

Employment and Training Administration

[TA-W-41,475]

Ruger Equipment, Inc., Urichsville, Ohio; Notice of Affirmative Determination Regarding Application for Reconsideration

By letter of July 19, 2002, the United Steelworkers of America, Local 2737-10 requested administrative reconsideration of the Department of Labor's Notice of Negative Determination Regarding Eligibility to Apply for Worker Adjustment Assistance, applicable to workers of the subject firm. The denial notice was signed on July 8, 2002, and published in the Federal Register on July 22, 2002 (67 FR 47861).

The petitioner supplied a list of customers unavailable during the original investigation. The Department of Labor will conduct a survey of these customers to determine if imports contributed importantly to the declines in employment at the subject plant.

Conclusion

After careful review of the application, I conclude that the claim is of sufficient weight to justify reconsideration of the Department of Labor's prior decision. The application is, therefore, granted.

Signed at Washington, DC, this 12th day of August, 2002.
Edward A. Tomchick,
Director, Division of Trade Adjustment Assistance.

[FR Doc. 02-21099 Filed 8-19-02; 8:45 am]

BILLING CODE 4510-30-P